DEPARTMENT OF THE INTERIOR

National Park Service

[NPS-WASO-NAGPRA-NPS0027608, PPWOCRADN0-PCU00RP14.R50000]

Notice of Inventory Completion: City of Traverse City, Traverse City, MI

AGENCY: National Park Service, Interior.

ACTION: Notice.

SUMMARY: The City of Traverse City has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the City of Traverse City. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the City of Traverse City at the address in this notice by May 29, 2019.

ADDRESSES: Penny Hill, Assistant City Manager, City of Traverse City, 400 Boardman Avenue, Traverse City, MI 49684, telephone (231) 922-4440, email phill@traversecitymi.gov.

SUPPLEMENTARY INFORMATION: Notice is here given in accordance with the Native American Graves Protection and Repatriation Act (NAGPRA), 25 U.S.C. 3003, of the completion of an inventory of human remains under the control of the City of Traverse City, Traverse City, MI. The human remains were removed from the “western plains.”

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the City of Traverse City professional staff in consultation with representatives of tribes with aboriginal territory in North Dakota, South Dakota, Nebraska, and Kansas; eastern portions of Montana, Wyoming, Colorado, and New Mexico; portions of Oklahoma; and northwestern portions of Texas. The consultant tribes with aboriginal territory in the “western plains” include: Bay Mills Indian Community, Michigan; Grand Traverse Band of Ottawa and Chippewa Indians, Michigan; Little River Band of Ottawa Indians, Michigan; Little Traverse Bay Bands of Odawa Indians, Michigan; Match-e-be-nash-she-wish Band of Pottawatomi Indians of Michigan; Pokagon Band of Potawatomi Indians, Michigan and Indiana; Saginaw Chippewa Indian Tribe of Michigan; and the Sault Ste. Marie Tribe of Chippewa Indians, Michigan.

In addition to the Tribes listed above, all other Tribes with aboriginal territory in the “western plains” were also invited to participate but were not involved in consultations. A full list of these Tribes is available upon request.

Hereafter, these Tribes are referred to as “The Consulted and Notified Tribes.”

History and Description of the Remains

On an unknown date, human remains representing, at minimum, one individual were removed from an unknown location. In 1935, Traverse City Park Commissioner Con Foster sought to create a park that would include a historical museum. Foster traveled throughout the Midwest in search of Native American items to display in the museum. Over the course of 70 years the collection grew to include over 3,000 Native American items. In 2002, the collection was moved to the Grand Traverse Heritage Center. After the management contract between the City of Traverse City and the Grand Traverse Heritage Center was not renewed in 2014, the Con Foster Museum collection was placed in storage, where it remains today. No known individuals were identified. No associated funerary objects are present. According to museum records, a rifle (catalog number 1939.0001.0029b) was found with the human remains. Currently, the rifle cannot be located.

In museum records, the human remains are identified as being from the “western plains,” which can be interpreted to mean the Great Plains. The Great Plains encompasses all of North Dakota, South Dakota, Nebraska, and Kansas; eastern portions of Montana, Wyoming, Colorado, and New Mexico; western portions of Oklahoma; and northwestern portions of Texas. In addition, the focus of the Con Foster Museum collection was on Native American items. Together, this information makes it more likely than not that the human remains described in this notice are Native American. Pursuant to 43 CFR 10.16, the Secretary of the Interior may make a recommendation for a transfer of control of culturally unidentifiable human remains. In September 2017, the City of Traverse City requested that the Secretary, through the Native American Graves Protection and Repatriation Review Committee, recommend the proposed transfer of control of the culturally unidentifiable Native American human remains in this notice to the Match-e-be-nash-she-wish Band of Pottawatomi Indians of Michigan; Saginaw Chippewa Indian Tribe of Michigan; and Sault Ste. Marie Tribe of Chippewa Indians, Michigan. The Review Committee, acting pursuant to its responsibility under 25 U.S.C. 3006(c)(5), considered the request at its October 2018 meeting, and recommended to the Secretary that the proposed transfer of control proceed. A November 7, 2018 letter on behalf of the Secretary of Interior from the Designated Federal Official transmitted the Secretary's independent review and concurrence with the Review Committee that:

• The City of Traverse City consulted with every appropriate Indian Tribe or Native Hawaiian organization,

• none of The Consulted and Notified Tribes objected to the proposed transfer of control, and

• the City of Traverse City may proceed with the agreed upon transfer of control of the culturally unidentifiable human remains to the Match-e-be-nash-she-wish Band of Pottawatomi Indians of Michigan; Saginaw Chippewa Indian Tribe of Michigan; and Sault Ste. Marie Tribe of Chippewa Indians, Michigan.

Transfer of control is contingent on the publication of a Notice of Inventory Completion in the Federal Register. This notice fulfills that requirement.

Determinations Made by the City of Traverse City

Officials of the City of Traverse City have determined that:

• Pursuant to 25 U.S.C. 3001(9), the human remains described in this notice are Native American, based on museum records and collection practices.

• Pursuant to 25 U.S.C. 3001(9), the human remains described in this notice represent the physical remains of one individual of Native American ancestry.

• Pursuant to 25 U.S.C. 3001(2), a relationship of shared group identity cannot be reasonably traced between the Native American human remains and any present-day Indian Tribe.

• Pursuant to 43 CFR 10.11(c)(2)(i), the disposition of the human remains will be to the Match-e-be-nash-she-wish Band of Pottawatomi Indians of Michigan; Saginaw Chippewa Indian Tribe of Michigan; and the Sault Ste. Marie Tribe of Chippewa Indians, Michigan.

Additional Requestors and Disposition

Representatives of any Indian Tribe or Native Hawaiian organization not identified in this notice that wish to request transfer of control of these human remains should submit a written request with information in support of the request to Penny Hill, Assistant City Manager, City of Traverse City, 400 Boardman Avenue, Traverse City, MI 49684, telephone (231) 922-4440, email phill@traversecitymi.gov, by May 29, 2019. After that date, if no additional requestors have come forward, transfer of control of the human remains to the Match-e-be-nash-she-wish Band of Pottawatomi Indians of Michigan; Saginaw Chippewa Indian Tribe of Michigan; and the Sault Ste. Marie Tribe of Chippewa Indians, Michigan may proceed.

The City of Traverse City is responsible for notifying The Consulted and Notified Tribes that this notice has been published.

Dated: April 2, 2019.
Melanie O'Brien,
Manager, National NAGPRA Program.

[FR Doc. 2019-08589 Filed 4-26-19; 8:45 am]

BILLING CODE 4312-52-P